ENVIRONMENTAL PROTECTION AGENCY

[EPA-HQ-OPP-2007-1060; FRL-8373-6]

Pesticide Inert Ingredients: Status of Revoked Tolerance Exemptions

AGENCY: Environmental Protection Agency (EPA).

ACTION: Notice.

SUMMARY: EPA is providing the status of inert ingredient tolerance exemptions revoked in the Federal Register on August 9, 2006 (71 FR 45415) because of insufficient data.

FOR FURTHER INFORMATION CONTACT: Karen Angulo, Registration Division (7505P), Office of Pesticide Programs, Environmental Protection Agency, 1200 Pennsylvania Ave., NW., Washington, DC 20460-0001; telephone number: (703) 306-0404; fax number: (703) 605-0781; e-mail address: angulo.karen@epa.gov.

SUPPLEMENTARY INFORMATION:

I. General Information

A. Does this Action Apply to Me?

You may be potentially affected by this action if you are an agricultural producer, food manufacturer, or pesticide manufacturer. Potentially affected entities may include, but are not limited to:

Crop production (NAICS code 111).

Animal production (NAICS code 112).

Food manufacturing (NAICS code 311).

Pesticide manufacturing (NAICS code 32532).

This listing is not intended to be exhaustive, but rather provides a guide for readers regarding entities likely to be affected by this action. Other types of entities not listed in this unit could also be affected. The North American Industrial Classification System (NAICS) codes have been provided to assist you and others in determining whether this action might apply to certain entities. To determine whether you or your business may be affected by this action, you should carefully examine the applicability provisions in Unit II. If you have any questions regarding the applicability of this action to a particular entity, consult the person listed under FOR FURTHER INFORMATION CONTACT.

B. How Can I Get Copies of this Document and Other Related Information?

1. Docket. EPA has established a docket for this action under docket identification (ID) number EPA-HQ-OPP-2007-1060. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

2. Electronic access. You may access this Federal Register document electronically through the EPA Internet under the “Federal Register” listings at http://www.epa.gov/fedrgstr.

II. Background

A. Background on the Inert Ingredient Tolerance Exemption Revocation Action

In a final rule published in the Federal Register on August 9, 2006 (71 FR 45415)(FRL-8084-1), EPA revoked inert ingredient tolerance exemptions because insufficient data were available to the Agency to make the safety determination required by FFDCA section 408(c)(2). EPA concluded it had insufficient data to make the safety finding of FFDCA section 408(c)(2) and revoked the inert ingredient tolerance exemptions identified in the final rule under 40 CFR 180.910, 180.920, 180.930, and 180.940, with the revocations effective on August 9, 2008. This action did not preclude the possibility that through rulemaking EPA could reinstate those tolerance exemptions for which data are submitted that are sufficient to support the 408(c)(2) safety finding.

In the Federal Register of November 2, 2007, (72 FR 62232)(FRL-8155-4), EPA published the support status of each of the revoked tolerance exemptions. EPA had received communications from pesticide registrants and inert ingredient manufacturers expressing interest in supporting certain revoked inert ingredient tolerance exemptions. EPA’s guidance, available at http://www.epa.gov/opprd001/inerts/, describes how interested parties could demonstrate support for revoked tolerance exemptions, including identifying test materials and contracts with laboratories.

Elsewhere in this issue of the Federal Register is the final rule that moves the effective date of the revocation to August 9, 2009 for those tolerance exemptions where EPA has received a demonstration of intent to support. No extensions are granted for revoked tolerance exemptions where EPA has not received a demonstration of intent to support, therefore, the revocation date for unsupported tolerance exemptions remains August 9, 2008.

B. Effective Dates of the Revocation of Tolerance Exemptions with Insufficient Data

The following provides the revocation status of each of the inert ingredient tolerance exemptions revoked because of insufficient data. The tolerance exemptions are presented below in the order they appeared in the final rule published in the Federal Register on August 9, 2006 (71 FR 45415). The revocation status has been added to the end of each tolerance exemption expression. The expiration date of August 9, 2009 applies to tolerance exemption expressions with the following at the end: “(Demonstration of intent to support; revocation effective August 9, 2009).” Tolerance exemption expressions with “(No demonstration of support; revocation effective August 9, 2008)” expire on August 9, 2008. In addition, administrative revocation was completed in the Federal Register on August 9, 2006 (71 FR 45415) for seven redundant and incorrect tolerance exemptions, which are identified here as “(Administrative revocation is complete; revoked August 9, 2006)”.

Two other revoked tolerance exemptions received an acceptable demonstration of support and the effective date of the revocation is now August 9, 2009. In the Federal Register on August 9, 2006 (71 FR 45415), the Agency revoked two inert ingredient tolerance exemptions with insufficient data under 40 CFR part 180. They were inadvertently removed from the CFR some time ago but are considered to be active tolerance exemptions subject to reassessment as required by the FFDCA section 408(q). The effective date of the revocation of the following two tolerance exemptions is now August 9, 2009:

1. Section 180.910: “α-Alkyl(C12-C15)-ω- hydroxypoly(oxyethylene) sulfate, ammonium, calcium, magnesium, potassium, sodium, and zinc salts; the poly(oxyethylene) content averages 3 moles.”, and

2. Section 180.930: “α-Alkyl (C12-C15)-ω-hydroxypoly(oxyethylene) sulfate and its ammonium, calcium, magnesium, potassium, sodium, and zinc salts; the poly(oxyethylene) content averages 3 moles.”

C. Unsupported Inert Ingredient Tolerance Exemptions

It is important to note that EPA has not received indications of intent to support many of the inert ingredient tolerance exemptions revoked in the Federal Register on August 9, 2006 (71 FR 45415). The unsupported tolerance exemptions are identified in the list in this Unit with “(No demonstration of intent to support; revocation effective August 9, 2008)” at the end of the expression. No time extension is granted for the revoked tolerance exemptions where EPA has not received a demonstration of intent to support, therefore, the expiration date for those tolerance exemptions with no indication of intent to support remains August 9, 2008. Please note that this revocation action only affects the use of these inert ingredients in food-use pesticide products, therefore, any current use of these inert ingredients in non-food use pesticide products is not affected.

At this time, EPA is no longer accepting or processing applications for registrations for food-use products containing a tolerance exemption that expires on August 9, 2008 unless accompanied by a petition for a new tolerance or exemption under the Pesticide Registration Improvement Renewal Act (PRIA 2), together with all necessary supporting data. All commodities containing residues of these revoked inert ingredients on food are adulterated under FFDCA 408 if the residues are the result of applications of pesticide products made after August 9, 2008. Registrants who submitted a registration application for a food-use formulation containing an inert ingredient with an expiring tolerance exemption may submit a new application for registration with only those inert ingredients that are approved for the label’s use sites. If the registration application is subject to, including registration applications submitted under PRIA 2 that include a petition for a new or amended food-use inert ingredient, the following Web site provides useful information: http://www.epa.gov/pesticides/fees/questions/pria21day_wrksht.pdf. Currently approved food-use inert ingredient tolerance exemptions are found in 40 CFR part 180 (http://www.epa.gov/opprd001/inerts/lists.html). Contact EPA’s Inert Ingredient Assessment Branch at inertsbranch@epa.gov for information about how to establish a new inert ingredient.

Under § 180.910:

a. α-Alkyl (C9-C18-ω-hydroxypoly(oxyethylene) with poly(oxyethylene) content of 2-30 moles. (Demonstration of intent to support; revocation effective August 9, 2009)

b. α-(p-Alkylphenyl)-ω-hydroxypoly(oxyethylene) produced by the condensation of 1 mole of alkylphenol (alkyl is a mixture of propylene tetramer and pentamer isomers and averages C13) with 6 moles of ethylene oxide. (No demonstration of intent to support; revocation effective August 9, 2008)

c. α-Alkyl (C6-C14)-ω-hydroxypoly(oxypropylene) block copolymer with polyoxyethylene; polyoxypropylene content is 1-3 moles; polyoxyethylene content is 4-12 moles; average molecular weight (in amu) is approximately 635. (Demonstration of intent to support; revocation effective August 9, 2009)

d. α-(p-tert-Butylphenyl)-ω-hydroxypoly (oxyethylene) mixture of dihydrogen phosphate and monohydrogen phosphate esters and the corresponding ammonium calcium, magnesium, monoethanolamine, potassium, sodium, and zinc salts of the phosphate esters; the poly(oxyethylene) content averages 4-12 moles. (No demonstration of intent to support; revocation effective August 9, 2008)

e. α-(o,p-Dinonylphenyl)-ω-hydroxypoly (oxyethylene) mixture of dihydrogen phosphate and monohydrogen phosphate esters and the corresponding ammonium, calcium, magnesium, monoethanolamine, potassium, sodium, and zinc salts of the phosphate esters; the nonyl group is a propylene trimer isomer and the poly(oxyethylene) content averages 4-14 moles. (No demonstration of intent to support; revocation effective August 9, 2008)

f. α-(o,p-Dinonylphenyl)-ω-hydroxypoly (oxyethylene) produced by condensation of 1 mole of dinonylphenol (nonyl group is a propylene trimer isomer) with an average of 4-14 or 140-160 moles of ethylene oxide. (No demonstration of intent to support; revocation effective August 9, 2008)

g. Dodecylbenzenesulfonic acid, amine salts. (No demonstration of intent to support; revocation effective August 9, 2008)

h. α-(p-Dodecylphenyl)-ω-hydroxypoly (oxyethylene) produced by the condensation of 1 mole of dodecylphenol (dodecyl group is a propylene tetramer isomer) with an average of 4-14 or 30-70 moles of ethylene oxide; if a blend of products is used, the average number of moles of ethylene oxide reacted to produce any product that is a component of the blend shall be in the range of 4-14 or 30-70. (No demonstration of intent to support; revocation effective August 9, 2008)

i. Ethylene oxide adducts of 2,4,7,9-tetramethyl-5-decynediol, the ethylene oxide content averages 3.5, 10, or 30 moles. (Demonstration of intent to support; revocation effective August 9, 2009)

j. α-Lauryl-ω-hydroxypoly(oxyethylene), average molecular weight (in amu) of 600. (Demonstration of intent to support; revocation effective August 9, 2009)

k. α-Lauryl-ω-hydroxypoly(oxyethylene) sulfate, sodium salt; the poly(oxyethylene) content is 3-4 moles. (Demonstration of intent to support; revocation effective August 9, 2009)

l. Manganous oxide. (No demonstration of intent to support; revocation effective August 9, 2008)

m. α-(p-Nonylphenyl)-ω-hydroxypoly(oxyethylene) mixture of dihydrogen phosphate and monohydrogen phosphate esters and the corresponding ammonium, calcium, magnesium, monoethanolamine, potassium, sodium, and zinc salts of the phosphate esters; the nonyl group is a propylene trimer isomer and the poly (oxyethylene) content averages 4-14 moles or 30 moles. (Demonstration of intent to support; revocation effective August 9, 2009)

n. α-(p-Nonylphenyl)-ω-hydroxypoly(oxyethylene) sulfate, ammonium, calcium, magnesium, potassium, sodium, and zinc salts; the nonyl group is a propylene trimer isomer and the poly(oxyethylene) content averages 4 moles. (Demonstration of intent to support; revocation effective August 9, 2009)

o. Polyglyceryl phthalate ester of coconut oil fatty acids. (Demonstration of intent to support; revocation effective August 9, 2009)

p. Poly(methylene-p-tert-butylphenoxy)- poly(oxyethylene) ethanol; the poly(oxyethylene) content averages 4-12 moles. (No demonstration of intent to support; revocation effective August 9, 2008)

q. Poly(methylene-p-nonylphenoxy)poly(oxyethylene) ethanol; the poly(oxyethylene) content averages 4-12 moles. (No demonstration of intent to support; revocation effective August 9, 2008)

r. Secondary alkyl (C11-C15) poly(oxyethylene) acetate, sodium salt; the ethylene oxide content averages 5 moles. (No demonstration of intent to support; revocation effective August 9, 2008)

s. Sodium diisobutylnaphthalenesulfonate. (Demonstration of intent to support; revocation effective August 9, 2009)

t. Sodium dodecylphenoxybenzenedisulfonate. (Demonstration of intent to support; revocation effective August 9, 2009)

u. Sodium isopropylisohexylnaphthalenesulfonate. (No demonstration of intent to support; revocation effective August 9, 2008)

v. Sodium lauryl glyceryl ether sulfonate. (No demonstration of intent to support; revocation effective August 9, 2008)

w. Sodium monoalkyl and dialkyl (C8-C16) phenoxybenzenedisulfonate mixtures containing not less than 70% of the monoalkylated product. (Demonstration of intent to support; revocation effective August 9, 2009)

x. Sodium mono- and dimethylnaphthalenesulfonates, molecular weight (in amu) 245-260. (Demonstration of intent to support; revocation effective August 9, 2009)

y. Sodium mono-, di-, and tributyl naphthalenesulfonates. (Demonstration of intent to support; revocation effective August 9, 2009)

z. Sodium mono-, di-, and triisopropyl naphthalenesulfonate. (Demonstration of intent to support; revocation effective August 9, 2009)

aa. Sodium N-oleoyl-N-methyltaurine. (Demonstration of intent to support; revocation effective August 9, 2009)

bb. Sodium sulfite. (No demonstration of intent to support; revocation effective August 9, 2008. The tolerance exemption under § 180.910 is revoked. Please note that EPA is currently evaluating a petition for an exemption from the requirement of a tolerance for a limited use of sodium sulfite as an inert ingredient. See the notice of filing published in the Federal Register on February 6, 2008 (73 FR 6964)(FRL-8350-6)).

cc. α-[p-(1,1,3,3-Tetramethylbutyl)phenyl]-ω-hydroxypoly(oxyethylene) produced by the condensation of 1 mole of p-(1,1,3,3-tetramethylbutyl)phenol with a range of 1-14 or 30-70 moles of ethylene oxide: if a blend of products is used, the average range number of moles of ethylene oxide reacted to produce any product that is a component of the blend shall be in the range of 1-14 or 30-70. (Demonstration of intent to support; revocation effective August 9, 2009)

dd. α-[p-(1,1,3,3-Tetramethylbutyl) phenyl]-ω-hydroxypoly(oxyethylene) produced by the condensation of 1 mole of p-(1,1,3,3-tetramethylbutyl) phenol with an average of 4-14 or 30-70 moles of ethylene oxide; if a blend of products is used, the average number of moles of ethylene oxide reacted to produce any product that is a component of the blend shall be in the range of 4-14 or 30-70. (Administrative revocation is complete; revoked August 9, 2006)

ee. Tridecylpoly(oxyethylene) acetate, sodium salt; where the ethylene oxide content averages 6-7 moles. (No demonstration of intent to support; revocation effective August 9, 2008)

In the final rule published in the Federal Register on August 9, 2006 (71 FR 45415), the Agency revoked one other inert ingredient tolerance exemption that was inadvertently removed from the CFR some time ago but is considered to be an active tolerance exemption under § 180.910:

“α-Alkyl(C12-C15)-ω- hydroxypoly(oxyethylene) sulfate, ammonium, calcium, magnesium, potassium, sodium, and zinc salts; the poly(oxyethylene) content averages 3 moles.” (Demonstration of intent to support; revocation effective August 9, 2009)

Under § 180.920:

a. α-Alkyl (C12-C18)-ω-hydroxypoly(oxyethylene) copolymers with poly(oxypropylene); polyoxyethylene content averages 3-12 moles and polyoxypropylene content 2-9 moles. (Demonstration of intent to support; revocation effective August 9, 2009)

b. α-Alkyl (C10-C16)-ω-hydroxypoly(oxyethylene) mixture of dihydrogen phosphate and monohydrogen phosphate esters and the corresponding ammonium, calcium, magnesium, monoethanolamine, potassium, sodium, and zinc salts of the phosphate esters; the poly(oxyethylene) content averages 3-20 moles. (Demonstration of intent to support; revocation effective August 9, 2009)

c. α-Alkyl (C12-C15)-ω-hydroxypoly(oxyethylene) sulfosuccinate, isopropylamine and N-hydroxyethyl isopropylamine salts of; the poly(oxyethylene) content averages 3-12 moles. (No demonstration of intent to support; revocation effective August 9, 2008)

d. α-Alkyl(C10-12)-ω-hydroxpoly(oxyethylene) poly(oxypropylene) copolymer; poly(oxyethylene) content is 11-15 moles; poly(oxyproplene) content is 1-3 moles. (No demonstration of intent to support; revocation effective August 9, 2008)

e. α-Alkyl(C12-C18)-ω-hydroxypoly (oxyethylene/oxypropylene) hetero polymer in which the oxyethylene content averages 13-17 moles and the oxypropylene content averages 2-6 moles. (Demonstration of intent to support; revocation effective August 9, 2009)

f. α-Alkyl (C10-C16)-ω-hydroxypoly(oxyethylene)poly(oxypropylene) mixture of di- and monohydrogen phosphate esters and the corresponding ammonium, calcium, magnesium, monoethanolamine, potassium, sodium, and zinc salts of the phosphate esters; the combined poly(oxyethylene) poly(oxypropylene) content averages 3-20 moles. (Demonstration of intent to support; revocation effective August 9, 2009)

g. α-Alkyl (C12-C18)-ω-hydroxypoly(oxyethylene/oxypropylene) hetero polymer in which the oxyethylene content is 8-12 moles and the oxypropylene content is 3-7 moles. (Demonstration of intent to support; revocation effective August 9, 2009)

h. α-Alkyl (C12-C15)-ω-hydroxypoly(oxyethylene/oxypropylene) hetero polymer in which the oxyethylene content is 8-13 moles and the oxypropylene content is 7-30 moles. (Demonstration of intent to support; revocation effective August 9, 2009)

i. α-Alkyl (C21-C71)-ω-hydroxypoly (oxyethylene) in which the poly(oxyethylene) content is 2 to 91 moles and molecular weight range from 390 to 5,000. (Demonstration of intent to support; revocation effective August 9, 2009)

j. n-Alkyl(C8-C18)amine acetate. (Demonstration of intent to support; revocation effective August 9, 2009)

k. Amine salts of alkyl (C8-C24) benzenesulfonic acid (butylamine, dimethylaminopropylamine, mono- and diisopropylamine, mono- , di- , and triethanolamine). (Demonstration of intent to support; revocation effective August 9, 2009)

l. N-(Aminoethyl) ethanolamine salt of dodecylbenzenesulfonic acid. (No demonstration of intent to support; revocation effective August 9, 2008)

m. N,N-Bis[α-ethyl-ω-hydroxypoly(oxyethylene) alkylamine; the poly(oxyethylene) content averages 3 moles; the alkyl groups (C14-C18) are derived from tallow, or from soybean or cottonseed oil acids. (Demonstration of intent to support; revocation effective August 9, 2009)

n. N,N-Bis(2-hydroxyethyl)alkylamine, where the alkyl groups (C8-C18) are derived from coconut, cottonseed, soya, or tallow acids. (Demonstration of intent to support; revocation effective August 9, 2009)

o. N,N-Bis 2-(ω-hydroxypolyoxyethylene) ethyl) alkylamine; the reaction product of 1 mole N,N-bis(2-hydroxyethyl)alkylamine and 3-60 moles of ethylene oxide, where the alkyl group (C8-C18) is derived from coconut, cottonseed, soya, or tallow acids. (Demonstration of intent to support; revocation effective August 9, 2009)

p. N,N-Bis-2-(ω-hydroxypolyoxyethylene/polyoxypropylene) ethyl alkylamine; the reaction product of 1 mole of N,N-bis(2-hydroxyethyl alkylamine) and 3-60 moles of ethylene oxide and propylene oxide, where the alkyl group (C8-C18) is derived from coconut, cottonseed, soya, or tallow acids. (Demonstration of intent to support; revocation effective August 9, 2009)

q. Butoxytriethylene glycol phosphate. (No demonstration of intent to support; revocation effective August 9, 2008)

r. Cyclohexanol. (No demonstration of intent to support; revocation effective August 9, 2008)

s. α-(Di-sec-butyl)phenylpoly(oxypropylene) block polymer with poly(oxyethylene); the poly(oxypropylene) content averages 4 moles, the poly(oxyethylene) content averages 5 to 12 moles, the molecular. (Demonstration of intent to support; revocation effective August 9, 2009)

t. Disodium 4-isodecyl sulfosuccinate. (No demonstration of intent to support; revocation effective August 9, 2008)

u. Dodecylphenol. (No demonstration of intent to support; revocation effective August 9, 2008)

v. α-Dodecylphenol-ω-hydroxypoly(oxyethylene/oxypropylene) hetero polymer where ethylene oxide content is 11-13 moles and oxypropylene content is 14-16 moles, molecular weight (in amu) averages 600 to 965. (No demonstration of intent to support; revocation effective August 9, 2008)

w. Isopropylbenzenesulfonic acid and its ammonium, calcium, magnesium, potassium, sodium, and zinc salts. (No demonstration of intent to support; revocation effective August 9, 2008)

x. (3-Lauramidopropyl) trimethylammonium methyl sulfate. (No demonstration of intent to support; revocation effective August 9, 2008)

y. Linoleic diethanolamide (CAS Reg. No. 56863-02-6). (Demonstration of intent to support; revocation effective August 9, 2009)

z. Methyl bis(2-hydroxyethyl)alkyl ammonium chloride, where the carbon chain (C8-C18) is derived from coconut, cottonseed, soya, or tallow acids. (Demonstration of intent to support; revocation effective August 9, 2009)

aa. α,α′-[Methylenebis]-4-(1,1,3,3-tetramethylbutyl)-o-phenylene bis[ω-hydroxypoly(oxyethylene)] having 6-7.5 moles of ethylene oxide per hydroxyl group. (No demonstration of intent to support; revocation effective August 9, 2008)

bb. Methylnaphthalenesulfonic acid—formaldehyde condensate, sodium salt. (Demonstration of intent to support; revocation effective August 9, 2009)

cc. Methyl poly(oxyethylene) alkyl ammonium chloride, where the poly(oxyethylene) content is 3-15 moles and the alkyl group (C8-C18) is derived from coconut, cottonseed, soya, or tallow acids. (Demonstration of intent to support; revocation effective August 9, 2009)

dd. Methyl violet 2B. (No demonstration of intent to support; revocation effective August 9, 2008)

ee. Morpholine salt of dodecylbenzenesulfonic acid. (No demonstration of intent to support; revocation effective August 9, 2008)

ff. Naphthalenesulfonic acid-formaldehyde condensate, ammonium and sodium salts. (Demonstration of intent to support; revocation effective August 9, 2009)

gg. Partial sodium salt of N-lauryl-α-iminodipropionic acid. (Demonstration of intent to support; revocation effective August 9, 2009)

hh. Poly(methylene-p-nonylphenoxy)poly(oxypropylene) propanol; the poly(oxy-propylene) content averages 4-12 moles. (No demonstration of intent to support; revocation effective August 9, 2008)

ii. Primary n-alkylamines, where the alkyl group (C8-C18) is derived from coconut, cottonseed, soya, or tallow acids. (Demonstration of intent to support; revocation effective August 9, 2009)

jj. Sodium butyl naphthalenesulfonate. (Administrative revocation is complete; revoked August 9, 2006)

kk. Sodium 1,4-dicyclohexyl sulfosuccinate. (No demonstration of intent to support; revocation effective August 9, 2008)

ll. Sodium 1,4-dihexyl sulfosuccinate. (Demonstration of intent to support; revocation effective August 9, 2009)

mm. Sodium 1,4-diisobutyl sulfosuccinate. (Demonstration of intent to support; revocation effective August 9, 2009)

nn. Sodium 1,4-dipentyl sulfosuccinate. (Demonstration of intent to support; revocation effective August 9, 2009)

oo. Sodium 1,4-ditridecyl sulfosuccinate. (No demonstration of intent to support; revocation effective August 9, 2008)

pp. Sodium mono- and dimethyl naphthalenesulfonate; molecular weight (in amu) 245-260. (Administrative revocation is complete; revoked August 9, 2006)

qq. Sulfosuccinic acid ester with N-(2,-hydroxy-propyl) oleamide, ammonia and isopropylamine salts of. (No demonstration of intent to support; revocation effective August 9, 2008)

rr. Tall oil diesters with polypropylene glycol (CAS Reg. No. 68648-12-4). (No demonstration of intent to support; revocation effective August 9, 2008)

ss. N,N,N′,N′′-Tetrakis-(2-hydroxypropyl) ethylenediamine. (Demonstration of intent to support; revocation effective August 9, 2009)

tt. α-[p-(1,1,3,3-Tetramethylbutyl)phenyl]-ω-hydroxypoly(oxyethylene) mixture of dihydrogen phosphate and monohydrogen phosphate esters and the corresponding sodium salts of the phosphate esters; the poly(oxyethylene) content averages 6 to 10 moles. (No demonstration of intent to support; revocation effective August 9, 2008)

Under § 180.930:

a. α-Alkyl (C9-C18)-ω-hydroxy poly(oxyethylene): the poly(oxyethylene) content averages 2-20 moles. (No demonstration of intent to support; revocation effective August 9, 2008)

b. α-Alkyl (C12-C15)-ω-hydroxypoly(oxyethylene/oxypropylene) hetero polymer in which the oxyethylene content is 8-13 moles and the oxypropylene content is 7-30 moles. (Demonstration of intent to support; revocation effective August 9, 2009)

c. α-Alkyl (C8-C10) hydroxypoly(oxypropylene) block polymer with polyoxyethylene; polyoxypropylene content averages 3 moles and polyoxyethylene content averages 5-12 moles. (Demonstration of intent to support; revocation effective August 9, 2009)

d. α-Alkyl (C6-C14)-ω-hydroxypoly(oxypropylene) block copolymer with polyoxyethylene; polyoxypropylene content is 1-3 moles; polyoxyethylene content is 7-9 moles; average molecular weight (in amu) approximately 635. (Demonstration of intent to support; revocation effective August 9, 2009)

e. α-(p-Alkylphenyl)-ω-hydroxypoly (oxyethylene) produced by the condensation of 1 mole of alkylphenol (alkyl is a mixture of propylene tetramer and pentamer isomers and averages C13) with 6 moles of ethylene oxide. (No demonstration of intent to support; revocation effective August 9, 2008)

f. Amine salts of alkyl (C8-C24) benzenesulfonic acid (butylamine; dimethylamino propylamine; mono- and diisopropyl-amine; and mono-, di-, and triethanolamine). (Demonstration of intent to support; revocation effective August 9, 2009)

g. α-(p-tert- Butylphenyl)-ω-hydroxypoly(oxyethylene) mixture of dihydrogen phosphate and monohydrogen phosphate esters and the corresponding ammonium, calcium, magnesium, monoethanolamine, potassium, sodium, and zinc salts of the phosphate esters; the poly(oxyethylene) content averages 4-12 moles. (No demonstration of intent to support; revocation effective August 9, 2008)

h. α-(o,p-Dinonylphenyl)-ω-hydroxypoly (oxyethylene) mixture of dihydrogen phosphate and monohydrogen phosphate esters and the corresponding ammonium, calcium, magnesium, monoethanolamine, potassium, sodium, and zinc salts of the phosphate esters; the nonyl group is a propylene trimer isomer and the poly(oxyethylene) content averages 4-14 moles. (No demonstration of intent to support; revocation effective August 9, 2008)

i. α-(o,p-Dinonylphenyl)-ω-hydroxypoly (oxyethylene), produced by the condensation of 1 mole of dinonylphenol (nonyl group is a propylene trimer isomer) with an average of 4-14 moles of ethylene oxide. (No demonstration of intent to support; revocation effective August 9, 2008)

j. Dodecylbenzenesulfonic acid, amine salts. (No demonstration of intent to support; revocation effective August 9, 2008)

k. α-(p-Dodecylphenyl)-ω-hydroxypoly (oxyethylene) produced by the condensation of 1 mole of dodecylphenol (dodecyl group is a propylene tetramer isomer) with an average of 4-14 or 30-70 moles of ethylene oxide; if a blend of products is used, the average number of moles of ethylene oxide reacted to produce any product that is a component of the blend shall be in the range of 4-14 or 30-70 moles. (No demonstration of intent to support; revocation effective August 9, 2008)

l. Ethylene oxide adducts of 2,4,7,9-tetramethyl-5-decynediol, the ethylene oxide content averages 3.5, 10, or 30 moles. (Demonstration of intent to support; revocation effective August 9, 2009)

m. Ethyl vinyl acetate (CAS Reg. No. 24937-78-8). (Administrative revocation is complete; revoked August 9, 2006)

n. α-Lauryl-ω-hydroxypoly(oxyethylene), average molecular weight (in amu) of 600. (Demonstration of intent to support; revocation effective August 9, 2009)

o. α-Lauryl-ω-hydroxypoly(oxyethylene), sulfate, sodium salt; the poly(oxyethylene) content is 3-4 moles. (Demonstration of intent to support; revocation effective August 9, 2009)

p. Manganous oxide. (No demonstration of intent to support; revocation effective August 9, 2008)

q. α-(Methylene (4-(1,1,3,3-tetramethylbutyl)-o-phenylene) bis-ω-hydroxypoly(oxyethylene) having 6-7.5 moles of ethylene oxide per hydroxyl group. (Administrative revocation is complete; revoked August 9, 2006)

r. Mono-, di-, and trimethylnaphthalenesulfonic acids-formaldehyde condensates, sodium salts. (No demonstration of intent to support; revocation effective August 9, 2008)

s. Naphthalenesulfonic acid and its sodium salt. (Demonstration of intent to support; revocation effective August 9, 2009)

t. α-(p-Nonylphenyl)-ω-hydroxypoly(oxyethylene) mixture of dihydrogen phosphate and monohydrogen phosphate esters and the corresponding ammonium, calcium, magnesium, monoethanolamine, potassium, sodium, and zinc salts of the phosphate esters; the nonyl group is a propylene trimer isomer and the poly(oxyethylene) content averages 4-14 moles. (Demonstration of intent to support; revocation effective August 9, 2009)

u. α-(p-Nonylphenyl)-ω-hydroxypoly(oxyethylene) sulfate, and its ammonium, calcium, magnesium, potassium, sodium, and zinc salts; the nonyl group is a propylene trimer isomer and the poly(oxyethylene) content averages 4 moles. (Demonstration of intent to support; revocation effective August 9, 2009)

v. α-(p-Nonylphenyl)-ω-hydroxypoly(oxyethylene) sulfate, and its ammonium, calcium, magnesium, monoethanolamine, potassium, sodium, and zinc salts; the nonyl group is a propylene trimer isomer and the poly(oxyethylene) content averages 4-14 or 30-90 moles of ethyiene oxide. (Demonstration of intent to support; revocation effective August 9, 2009)

w. Polyglyceryl phthalate esters of coconut oil fatty acids. (Demonstration of intent to support; revocation effective August 9, 2009)

x. Poly(methylene-p-tert-butylphenoxy)poly(oxyethylene) ethanol; the poly(oxyethylene) content averages 4-12 moles. (No demonstration of intent to support; revocation effective August 9, 2008)

y. Poly(methylene-p-nonylphenoxy)poly(oxyethylene) ethanol; the poly(oxyethylene) content averages 4-12 moles. (No demonstration of intent to support; revocation effective August 9, 2008)

z. Poly(methylene-p-nonylphenoxy)poly(oxypropylene) propanol; the poly(oxypropylene) content averages 4-12 moles. (No demonstration of intent to support; revocation effective August 9, 2008)

aa. Secondary alkyl (C11-C15) poly(oxyethylene) acetate, sodium salt; the ethylene oxide content averages 5 moles. (No demonstration of intent to support; revocation effective August 9, 2008)

bb. Sodium butylnaphthalenesulfonate. (Administrative revocation is complete; revoked August 9, 2006)

cc. Sodium diisobutylnaphthalenesulfonate. (Demonstration of intent to support; revocation effective August 9, 2009)

dd. Sodium isopropylisohexylnaphthalenesulfonate. (No demonstration of intent to support; revocation effective August 9, 2008)

ee. Sodium isopropylnaphthalenesulfonate. (Demonstration of intent to support; revocation effective August 9, 2009)

ff. Sodium monoalkyl and diakyl (C8-C13) phenoxybenzenedisulfonate mixtures containing not less than 70% of the monoalkylated product. (Demonstration of intent to support; revocation effective August 9, 2009)

gg. Sodium mono- and dimethylnaphthalenesulfonate, molecular weight (in amu) 245-260. (Demonstration of intent to support; revocation effective August 9, 2009)

hh. Sodium mono-, di-, and tributylnaphthalenesulfonates. (Demonstration of intent to support; revocation effective August 9, 2009)

ii. Sodium N-oleoyl-N-methyl taurine. (Demonstration of intent to support; revocation effective August 9, 2009)

jj. α-[p-(1,1,3,3-Tetramethylbutyl)phenyl]-ω-hydroxypoly(oxyethylene) produced by the condensation of 1 mole of p (1,1,3,3-tetramethylbutyl)phenol with a range of 1-14 or 30-70 moles of ethylene oxide: if a blend of products is used, the average range number of moles of ethylene oxide reacted to produce any product that is a component of the blend shall be in the range of 1-14 or 30-70. (Demonstration of intent to support; revocation effective August 9, 2009)

kk. α-[p-(1,1,3,3-Tetramethylbutyl)phenyl]-ω-hydroxypoly(oxyethylene) produced by the condensation of 1 mole of p-(1,1,-3,3-tetramethylbutyl) phenol with an average of 4-14 or 30-70 moles of ethylene oxide; if a blend of products is used, the average number of moles of ethylene oxide reacted to produce any product that is a component of the blend shall be in the range of 4-14 or 30-70. (Administrative revocation is complete; revoked August 9, 2006)

ll. Tridecylpoly(oxyethylene) acetate sodiums salt; where the ethylene oxide content averages 6-7 moles. (No demonstration of intent to support; revocation effective August 9, 2008)

In the final rule published in the Federal Register on August 9, 2006 (71 FR 45415), the Agency revoked one other inert ingredient tolerance exemption that was inadvertently removed from the CFR some time ago but is considered to be an active tolerance exemption under § 180.930:

“α-Alkyl (C12-C15)-ω-hydroxypoly(oxyethylene) sulfate and its ammonium, calcium, magnesium, potassium, sodium, and zinc salts; the poly(oxyethylene) content averages 3 moles.” (Demonstration of intent to support; revocation effective August 9, 2009)

Under § 180.940:

Under paragraph (a):

i. α-Alkyl(C10-C14)-ω- hydroxypoly (oxyethylene) poly(oxypropylene) average molecular weight (in amu), 768 to 837. (Demonstration of intent to support; revocation effective August 9, 2009)

ii. α-Alkyl(C12-C18)-ω hydroxypoly (oxyethylene) poly(oxypropylene) average molecular weight (in amu), 950 to 1120. (Demonstration of intent to support; revocation effective August 9, 2009)

Under paragraph (b):

i. α-Lauroyl-ω-hydroxypoly (oxyethylene) with an average of 8-9 moles ethylene oxide, average molecular weight (in amu), 400. (No demonstration of intent to support; revocation effective August 9, 2008)

ii. Oxirane, methyl-, polymer with oxirane, ether with (1,2-ethanediyldinitrilo)tetrakis [propanol] (4:1). (No demonstration of intent to support; revocation effective August 9, 2008)

Under paragraph (c):

i. α-Alkyl(C10-C14)-ω-hydroxypoly (oxyethylene) poly (oxypropylene) average molecular weight (in amu), 768 to 837. (Demonstration of intent to support; revocation effective August 9, 2009)

ii. α-Alkyl(C11-C15)-ω-hydroxypoly (oxyethylene) with ethylene oxide content 9 to 13 moles. (Demonstration of intent to support; revocation effective August 9, 2009)

iii. α-Alkyl(C12-C15)-ω-hydroxypoly (oxyethylene) polyoxypropylene, average molecular weight (in amu), 965. (No demonstration of intent to support; revocation effective August 9, 2008)

iv. α-Alkyl(C12-C18)-ω-hydroxypoly (oxyethylene) poly(oxypropylene) average molecular weight (in amu), 950 to 1120. (Demonstration of intent to support; revocation effective August 9, 2009)

v. α-Lauroyl-ω-hydroxypoly (oxyethylene) with an average of 8-9 moles ethylene oxide, average molecular weight (in amu), 400. (No demonstration of intent to support; revocation effective August 9, 2008)

vi. Naphthalene sulfonic acid, sodium salt. (No demonstration of intent to support; revocation effective August 9, 2008)

vii. Naphthalene sulfonic acid sodium salt, and its methyl, dimethyl and trimethyl derivatives. (Demonstration of intent to support; revocation effective August 9, 2009)

viii. Naphthalene sulfonic acid sodium salt, and its methyl, dimethyl and trimethyl derivatives alkylated at 3% by weight with C6-C9 linear olefins. (Demonstration of intent to support; revocation effective August 9, 2009)

ix. Oxirane, methyl-, polymer with oxirane, ether with (1,2-ethanediyldinitrilo)tetrakis [propanol] (4:1). (No demonstration of intent to support; revocation effective August 9, 2008)

List of Subjects

Environmental protection.

Dated: July 22, 2008.
Lois Rossi,
Director, Registration Division, Office of Pesticide Programs.

[FR Doc. E8-17457 Filed 8-1-08; 8:45 am]

BILLING CODE 6560-50-S